DEPARTMENT OF LABOR

Employment and Training Administration

Proposed Information Collection Request Submitted for Public Comment and Recommendations; Resource Justification Model

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration (ETA) is soliciting comments concerning the proposed extension of collection of information for the Resource Justification Model (RJM). ETA intends to use the RJM to formulate budget requests for the unemployment insurance (UI) program from States' data and to allocate appropriated funds among the States.

A copy of the proposed information collection request (ICR) can be obtained by contacting the office listed below in the addressee section of this notice.

DATES: Submit comments on or before August 2, 2004.

ADDRESSES: Send comments to Lauren C. Harrel, Room S4231, 200 Constitution Avenue, NW., Washington, DC 20210, (202) 693-2992 (this is not a toll-free number). E-mail address is harrel.lauren@dol.gov and fax number is (202) 693-2874.

FOR FURTHER INFORMATION CONTACT: Lauren C. Harrel, Room S4231, 200 Constitution Avenue, NW., Washington, DC 20210, (202) 693-2992 (this is not a toll-free number). E-mail address is harrel.lauren@dol.gov and fax number is (202) 693-2874.

SUPPLEMENTARY INFORMATION:

I. Background

ETA developed the RJM to obtain updated State UI program cost data. Although the RJM entails a substantial data collection effort, it provides ETA with current cost information to justify budget requests for State UI program administration and allocate administrative funds equitably among States. State agencies submit detailed data by major cost categories in a structured format. This provides States with a means to provide ETA with their input to the budget process. Software now available to the States for data extraction from accounting systems is able to keep the data collection burden at a minimum.

II. Desired Focus of Comments

Currently, the Department of Labor is soliciting comments concerning the proposed extension of the RJM collection. Comments are requested to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request (ICR) can be obtained by contacting the office listed above in the addresses section of this notice.

III. Current Actions

Type of Review: Extension without change.

Agency: Employment and Training Administration.

Title: Resource Justification Model.

OMB Number: 1205-0430.

Affected Public: State government.

Cite/Reference/Form/etc: Social Security Act, section 303(a)(b).

Total Respondents: 53 State workforce agencies.

Frequency: Annually.

Total Responses: 212.

Average Time per Response: 33.75 hours.

Estimated Total Burden Hours: 7,155.

Form/activity | Total respondents | Frequency | Total responses | Average time per response (hours) | Burden (hours)
Crosswalk | 53 | Annually | 53 | 120 | 6,360
ACCT SUM | 53 | Annually | 53 | 4 | 212
RJM 1-6 | 53 | Annually | 53 | 3 | 159
Narrative | 53 | Annually | 53 | 8 | 424
Totals |  |  | 212 |  | 7,155

Total Burden Cost (Capital/Startup): There are no capital or start-up costs for RJM.

Total Burden Cost (operating/maintaining): $0.

Comments submitted in response to this comment request will be summarized and/or included in the request for Office of Management and Budget approval of the information collection request; they will also become a matter of public record.

Dated: May 26, 2004.
Cheryl Atkinson,
Administrator, Office of Workforce Security.

[FR Doc. 04-12526 Filed 6-2-04; 8:45 am]

BILLING CODE 4510-30-P